DEPARTMENT OF TRANSPORTATION

Federal Motor Carrier Safety Administration

[Docket No. FMCSA-2023-0266]

Commercial Driver's License: Oregon Department of Transportation; Application for Exemption

AGENCY: Federal Motor Carrier Safety Administration (FMCSA), Department of Transportation (DOT).

ACTION: Notice of final disposition; grant of application for exemption.

SUMMARY: FMCSA announces its decision to grant a five-year exemption to the Oregon Department of Transportation (Oregon) from the commercial driver's license (CDL) rules concerning acceptable proof of citizenship or lawful permanent residency for citizens of Freely Associated States (FAS) who reside in Oregon and wish to obtain a CDL or commercial learner's permit (CLP). The FAS are the Federated States of Micronesia, the Republic of the Marshall Islands, and the Republic of Palau. The U.S. Department of Homeland Security (DHS) allows States to issue full-term REAL ID licenses and ID cards to citizens of the FAS. The exemption allows Oregon to accept from citizens of the FAS a valid, unexpired passport issued by a FAS and an Arrival/Departure Record, meaning an I-94 or I-94A form, as proof of lawful entry into the United States, and issue standard CLPs and CDLs, rather than non-domiciled CLPs and CDLs, to these individuals. FMCSA concludes that granting the exemption, subject to the terms and conditions set forth below, is likely to achieve a level of safety equivalent to or greater than the level of safety that would be obtained absent the exemption.

DATES: The exemption is effective September 25, 2024 and expires September 25, 2029.

FOR FURTHER INFORMATION CONTACT: Ms. Pearlie Robinson, Driver and Carrier Operations Division; Office of Carrier, Driver and Vehicle Safety Standards, FMCSA; 1200 New Jersey Avenue SE, Washington, DC 20590-0001; (202) 366-4225; pearlie.robinson@dot.gov. If you have questions on viewing or submitting material to the docket, contact Dockets Operations at (202) 366-9826.

SUPPLEMENTARY INFORMATION:

I. Public Participation

Viewing Comments and Documents

To view comments, go to www.regulations.gov, insert the docket number “FMCSA-2023-0266” in the keyword box, and click “Search.” Next, sort the results by “Posted (Newer-Older),” choose the first notice listed, click “Browse Comments.”

To view documents mentioned in this notice as being available in the docket, go to www.regulations.gov, insert the docket number “FMCSA-2023-0266” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analyses, and provide an opportunity for public comment.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)). The exemption may be renewed (49 CFR 381.300(b)).

III. Background

Current Regulation(s) Requirements

Under 49 CFR 383.71(a) and (b), a State Driver Licensing Agency (SDLA) may issue a CDL or CLP only to an applicant who presents proof of United States citizenship or lawful permanent residency, as listed in Table 1 to § 383.71, List of Acceptable Proofs of Citizenship or Lawful Permanent Residency. If the applicant cannot present this proof, then the SDLA may issue the applicant a non-domiciled CDL or CLP instead, under 49 CFR 383.71(f). Thus, under 49 CFR 383.71, a citizen of a FAS, who is not a lawful permanent resident, is not eligible for a CDL or CLP and may be issued only non-domiciled credentials.

The relationships of the United States with the FAS are governed by agreements known as Compacts of Free Association. Under these agreements, citizens of the FAS may enter the United States as nonimmigrants, and, without obtaining a visa, they may remain in and work in the country indefinitely.¹

¹ See H. Rept. 115-945.

Under the “REAL ID Act of 2005” ² and its accompanying regulation promulgated by the Department of Homeland Security (DHS) at 6 CFR part 37,³ REAL ID compliant States are permitted to issue REAL ID compliant driver's licenses and identification cards to certain individuals with nonimmigrant status. However, under 6 CFR 37.21(b)(1), if the individual has no end date to their authorized stay in the country, then the license or ID that is issued may be valid for a maximum of one year. Under this law, as originally enacted, because citizens of the FAS may remain in the country indefinitely these individuals could be issued REAL ID driver's licenses and ID cards lasting only one year.⁴

² Public Law 109-13, Div. B., 119 Stat. 302, May 11, 2005.

³ See 73 FR 5272 (January 29, 2008).

⁴ See 84 FR 46423 (September 4, 2019).

Subsequently, however, Congress enacted a modifying statute entitled the “REAL ID Act Modification for Freely Associated States Act,” ⁵ and DHS issued a corresponding amendment to its regulation. These changes permitted REAL ID compliant States to issue full-term REAL ID licenses and ID cards to citizens of the FAS. When issuing this regulatory amendment, DHS also modified the identification documents that citizens of the FAS may present when applying for a REAL ID driver's license or ID card from a compliant State.⁶ Under its authority in 6 CFR 37.11(c)(1)(x), DHS permits complying States to accept “a valid unexpired passport issued by the Republic of the Marshall Islands, the Republic of Palau, or the Federated States of Micronesia with an approved Form I-94 . . . documenting the applicant's most recent admission to the United States under the Compact of Free Association between the United States and the nation that issued the passport.” DHS believes its allowance of these documents is “consistent with the intent of Congress.” ⁷

⁵ Public Law 115-323, 132 Stat. 4443, Dec. 17, 2018.

⁶ See 84 FR 46556 (September 4, 2019).

⁷ Id.

Applicant's Request

Oregon's application for exemption was described in detail in a Federal Register notice on June 11, 2024, (89 FR 49265) and will not be repeated here as the facts have not changed.

IV. Public Comments

In response to the notice of Oregon's application, there were five comments submitted to the docket. Four individuals commented in opposition to the exemption, and the Hawaii Department of Transportation (HDOT) commented in support of the exemption.

Curt Smith, an individual opposing the exemption, said: “The exemption take[s] away from US citizens who want a CDL. [I]f the applicants are not US citizens, they should not get the same CDL as the driver that is a US citizen. A Nondomiciled CDL is just fine for someone that is not permanently domiciled in the continental United States.” The other comments in opposition expressed similar views.

HDOT submitted comments in support of the exemption and wrote, “HDOT agrees with Oregon and suggests that a valid, unexpired passport issued to a citizen of FAS, accompanied by an I-94 . . . form, is sufficient to prove that an individual has entered the United States lawfully.”

V. FMCSA Safety Analysis and Decision

FMCSA has evaluated Oregon's application for exemption and the public comments and based on its analysis, decided to grant an exemption to Oregon from 49 CFR 383.71 for citizens of the FAS. The Agency believes that granting an exemption allowing Oregon to issue CDLs or CLPs to citizens of the FAS in accordance with all other State procedures in 49 CFR 383.73(a) and (b) will achieve a level of safety that is equivalent to, or greater than, the level of safety that would be achieved without the exemption (49 CFR 381.305(a)). The exemption allows Oregon to accept a valid, unexpired passport issued by a FAS and an Arrival/Departure Record, meaning an I-94 or I-94A form, to prove that the individual has entered the United States lawfully, and issue standard CLPs and CDLs to these individuals.

In making this determination, FMCSA notes that DHS allows States to issue full-term REAL ID licenses and ID cards to citizens of FAS. DHS provides requirements for citizens of FAS to present proof of lawful permanent residency such that these individuals may receive REAL ID credentials, and the exemption pertains only to proof of lawful permanent residency.

VI. Exemption Decision

A. Applicability of Exemption

FMCSA grants an exemption from the CDL “List of Acceptable Proofs of Citizenship or Lawful Permanent Residency” requirements in Table 1 to 49 CFR 383.71 for citizens of the FAS residing in Oregon for a period of five years subject to the terms and conditions of this decision. Oregon may issue CLPs and CDLs under this exemption in accordance with State procedures in 49 CFR 383.73(a) and (b) only to a citizen of a FAS who presents a valid, unexpired passport issued by a FAS and an Arrival/Departure Record, meaning an I-94 or I-94A form, to prove that the individual has entered the United States lawfully.

B. Terms and Conditions

Oregon must comply with all other applicable Federal Motor Carrier Safety Regulations (49 CFR part 350-399).

C. Preemption

In accordance with 49 U.S.C. 31315(d), as implemented by 49 CFR 381.600, during the period this exemption is in effect, no State shall enforce any law or regulation applicable to interstate commerce that conflicts with or is inconsistent with this exemption with respect to a firm or person operating under the exemption.

D. Notification to FMCSA

Oregon must provide to FMCSA, upon request, a list of all drivers issued CLPs or CDLs under this exemption.

E. Termination

FMCSA does not believe that Oregon will experience any deterioration of its safety record. The Agency will, however, rescind the exemption if: (1) Oregon fails to comply with the terms and conditions of the exemption; (2) the exemption results in a lower level of safety than was maintained before it was granted; or (3) continuation of the exemption would not be consistent with the goals and objective of 49 U.S.C. 31136(e) and 31315(b).

Vincent G. White,
Deputy Administrator.

[FR Doc. 2024-21926 Filed 9-24-24; 8:45 am]

BILLING CODE 4910-EX-P